DEPARTMENT OF COMMERCE

Foreign-Trade Zones Board

[Docket 61-2008]

Foreign-Trade Zone 119 - Minneapolis, MN, Application for Expansion/Reorganization and Expansion of Manufacturing Authority, Subzone 119B - Uponor, Inc., (Polyethylene Tubing)

An application has been submitted to the Foreign-Trade Zones Board (the Board) by the Greater Metropolitan Area Foreign Trade Zone Commission (Minneapolis, Minnesota), grantee of FTZ 119, on behalf of Uponor, Inc. (formerly, the Wirsbo Company), operator of Subzone 119B at the Uponor polyethylene tubing manufacturing and distribution facilities in Apple Valley and Burnsville, Minnesota, requesting authority to expand and reorganize the subzone and to expand the scope of FTZ manufacturing authority to include new manufacturing capacity. The application was submitted pursuant to the provisions of the Foreign-Trade Zones Act, as amended (19 U.S.C. 81a-81u), and section 400.28(a)(2) of the Board's regulations (15 CFR Part 400). It was formally filed on October 28, 2008.

Subzone 119B was approved by the Board in 1993 with authority granted for the manufacture of polyethylene tubing at Uponor's manufacturing plant (Site 1)(135,000 sq.ft./6 acres) in Apple Valley, Minnesota (Board Order 640, 58 FR 30143, 5-26-93). Activity at the facility (427 employees) includes product development, manufacturing, testing, warehousing, and distribution of cross-linked polyethylene (PEX) tubing for residential and commercial indoor/outdoor hydronic radiant heating systems. In 2005, the Board authorized an expansion of the subzone to include an additional site in Burnsville, Minnesota (Site 2)(Board Order 1398, 70 FR 36116, 6-22-2005).

The applicant is now requesting authority to reorganize and expand the subzone to include a new warehouse facility (285,000 sq.ft./18.2 acres), currently under construction, located at 21900 Dodd Boulevard in Lakeville (Dakota County), Minnesota, that will replace existing Site 2 in Burnsville. Under the current expansion plan, the boundaries of Site 1 (manufacturing plant) will be expanded to include 13 additional acres and 196,000 square feet of production area that would double the facility's capacity. The applicant also requests that the scope of FTZ manufacturing authority be expanded to include the additional production capacity (new total would be 610 million feet per year). Uponor uses foreign-origin polyethylene (HDPE) resin (HTSUS 3901.10, 6.5%%) to manufacture the PEX tubing, which represents about 21 percent of the finished tubing's value. The company distributes certain foreign parts and materials used to construct the radiant heating systems, including thermostats, fittings, aluminum pipe, polyethylene pipe, polymers and resins, plastic foil, insulation, packaging materials, polyester tape, fasteners, mounting tracks, valves, transformers, fuses, relays, junction boxes, flow meters, and regulators.

Expanded FTZ procedures could continue to exempt Uponor from customs duty payments on the foreign-origin resin used in production for export (about 1%% of shipments). On its domestic shipments, the company would be able to elect the duty rate that applies to finished PEX tubing (3.1%%) for the foreign resin used in the manufacturing process. Customs duties also could possibly be deferred or reduced on foreign status production equipment.

In accordance with the Board's regulations, Pierre Duy of the FTZ Staff is designated examiner to investigate the application and report to the Board.

Public comment is invited from interested parties. Submissions (original and 3 copies) shall be addressed to the Board's Executive Secretary at the following address: Office of the Executive Secretary, Room 2111, U.S. Department of Commerce, 1401 Constitution Avenue, NW, Washington, DC 20230-0002. The closing period for receipt of comments is January 5, 2009. Rebuttal comments in response to material submitted during the foregoing period may be submitted during the subsequent 15-day period to January 20, 2009.

A copy of the application will be available for public inspection at each of the following locations: U.S. Department of Commerce Export Assistance Center, Suite 210-C, 100 North 6th Street, Minneapolis, MN 55403; and, at the Office of the Foreign-Trade Zones Board's Executive Secretary at the address listed above. For further information, contact Pierre Duy, examiner, at: Pierre_Duy@ita.doc.gov, or (202) 482-1378.

Dated: October 28, 2008.
Andrew McGilvray,
Executive Secretary.

[FR Doc. E8-26284 Filed 11-3-08; 8:45 am]

BILLING CODE 3510-DS-S